DEPARTMENT OF TRANSPORTATION

Federal Railroad Administration

49 CFR Part 214

[Docket No. FRA-2001-10426]

RIN 2130-AA48

Railroad Workplace Safety; Correction

AGENCY: Federal Railroad Administration (FRA), (DOT).

ACTION: Interim final rule; correction.

SUMMARY: In the Federal Register of Tuesday, January 15, 2002, (67 FR 1903), the FRA published an interim final rule prohibiting the use of body belts as permissible components of personal fall arrest systems and making technical changes. In the Federal Register of Tuesday, March 12, 2002, (67 FR 11055), the FRA published a correction to the interim final rule. Sections 214.105(b)(14) and 214.117(a) were incorrectly modified. This document corrects those modifications.

DATES: Effective on May 8, 2002.

FOR FURTHER INFORMATION CONTACT: Gordon A. Davids, Bridge Engineer, Office of Safety, FRA, 1120 Vermont Avenue NW., Washington, DC 20590, Telephone: (202) 493-6320; or Cynthia Walters, Trial Attorney, Office of Chief Counsel, FRA, 1120 Vermont Avenue NW., Washington, DC 20590, Telephone: (202) 493-6027.

SUPPLEMENTARY INFORMATION: In the Federal Register of January 15, 2002, (67 FR 1903), in an interim final rule, FRA incorrectly modified §§ 214.105(b)(14) and 214.117(a). In the Federal Register of March 12, 2002, (67 FR 11055), FRA published a correction to the interim final rule. Sections 214.105(b)(14) and 214.117(a) were incorrectly modified. This document corrects those modifications. In rule FR Doc. 02-723 published on January 15, 2002 (67 FR 1903), amend the following sections.

§ 214.105 [Corrected]

1. On page 1907, in the second column, in § 214.105, correct paragraph (b)(14) to read as follows:

(b)(14) Dee-rings and snap-hooks shall be capable of sustaining a minimum tensile load of 3,600 pounds without cracking, breaking, or taking permanent deformation.

§ 214.117 [Corrected]

2. On page 1908, in the second column, in § 214.117, correct paragraph (a) to read as follows:

(a) Railroad bridge workers shall be provided and shall wear eye and face protection equipment when potential eye or face injury may result from physical, chemical, or radiant agents.

Dated: May 2, 2002.
S. Mark Lindsey,
Chief Counsel, Federal Railroad Administration.

[FR Doc. 02-11489 Filed 5-7-02; 8:45 am]

BILLING CODE 4910-06-U